DEPARTMENT OF JUSTICE

Antitrust Division

Notice Pursuant to the National Cooperative Research and Production Act of 1993—The Digital Subscriber Line Forum

Notice is hereby given that, on July 16, 2003, pursuant to Section 6(a) of the National Cooperative Research and Production Act of 1993, 15 U.S.C. 4301 et seq. (“the Act”), The Digital Subscriber Line Forum (“DSL”) has filed written notifications simultaneously with the Attorney General and the Federal Trade Commission disclosing changes in its membership status. The notifications were filed for the purpose of extending the Act's provisions limiting the recovery of antitrust plaintiffs to actual damages under specified circumstances. Specifically, ASTRI, Tsimshatsui, Kowloon, Hong Kong-China; Bridgewater Systems, Kanata, Ontario, Canada; Celite Systems, Austin, TX; Cidco Communications Corporation, Morgan Hill, CA; DrayTek Corp., Hsinchu, Taiwan; E & E Magnetic Products, Hong Kong, Hong Kong-China; eCommerce Innovation Centre, Cardiff, Wales, United Kingdom; Efficient Networks, Dallas, TX; Entrisphere, Santa Clara, CA; Gemtek Technology Co., Hokou, Hsinchu, Taiwan; Georgia Tech Broadband Institute, Atlanta, GA; Incognito Software, Vancouver, British Columbia, Canada; Infratel Communications, Huntingdon Valley, PA; ITI Limited, Bangalore, Karatka, India; Juniper Networks, Westford, MA; Lite-On Technology, Chung-Ho, Taipei, Hsien, Taiwan; Netgear, Santa Clara, CA; Pine-net, Broken Bow, OK; Point Topic, London, United Kingdom; Real Communications, Milpitas, CA; Redback Networks, San Jose, CA; Sparnex, Laguna Hills, CA; Stanford University, Stanford, CA; Telenor, Fornebu, Norway; Xignal Technologies, Unterhaching, Germany; and Xilinx, San Jose, CA, have been added as parties to this venture. The following companies have cancelled their memberships: 3Com, San Diego, CA; Acterna Eningen GmbH, Salem, VA; Admit Design Systems, Dalgety Bay, Fife, United Kingdom; Advanced TelCom Group, Santa Rosa, CA; Agilent Technologies, San Jose, CA; Allied Data Technologies, Spijkenisse, The Netherlands; Angeles Design Systems, Inc., Los Angeles, CA: Aspex Technology, Hygh Wycombe, United Kingdom; Atech Technology Co., Taipei, Taiwan; Avail Networks, Ann Arbor, MI; Best Data Products, Chatsworth, CA; BRECIS Communications, San Jose, CA; Broadframe Corporation, Alta Loma, CA; C-DOT, Bangalore, Karataka, India; Calix Networks, Petaluma, CA; Carrier Access Corporation, Boulder, CO; Castlenet Technology, Wu-Ku Hsiang, Taipei Hsien, Taiwan; Celsian Technologies, Tustin, CA; Chaos Telecom, San Diego, CA; CoEv, Inc., Watertown, SD; Communications Standards Review, Palo Alto, CA; Conklin Corporation, Duluth, GA; Corecess, Seoul, Republic of Korea; Croatian Telecom, Zagreb, Croatia; Data Connection, Chester, United Kingdom; DSLB it Hantro Oy, Oulu, Finland; DTI, Newport, South Wales, United Kingdom; Eicon Networks, Montreal, Quebec, Canada; Exigen Group, Saint John, New Brunswick, Canada; FutureSoft, San Jose, CA; Garnet Systems Co., Seoul, Republic of Korea; General Bandwidth, Austin, TX; Hewlett Packard, Piscataway, NJ; Hyundai Electronics, Seoul, Republic of Korea; Integrated Telecom Express, Inc., San Jose, CA; Inventel, Paris, France; Ishoni Networks, Santa Clara, CA; ITRI, Chutung, Hsinchu, Taiwan; Jetstream Communications, San Jose, CA; Kinpo Electronics, Taipei Hsien, Taiwan; KYE Systems, Taipei, Taiwan; Lake Communications, Dublin, Ireland; Marconi Communications, Genoa, Italy; Maxxio Technologies, Vienna, Austria; MDS Gateways, Dublin, Ireland; Metro-OptiX, Allen, TX; Mitel Networks, Kanata, Ontario, Canada; MMG-North America, Patterson, NJ; MTnet, Skopje, Macedonia, Greece; Netergy Networks, Marlow, United Kingdom; NHC Communications, Mount-Royal, Quebec, Canada; OKI Electric Industry, Naples, FL; Optimal Communications LTD, Gerrards Cross, United Kingdom; Partner Voxtream, Vojens, Denmark; Polycom Inc., Milpitas, CA; Prestolite Wire/Krone, Garland, TX; Pulsent Corporation, Milpitas, CA; QSC, Cologne, Germany; RIT Technologies, Tel Aviv, Israel; Santera Systems, Plano, TX; Sasken Communication Technologies, Bangalore, Karataka, India; SercoNet, Ra'anana, Israel; Silicom, Kfar-Sava, Israel; Telcordia Technologies, Red Bank, NJ; Telebyte, Greenlawn, NY; TeleChoice, Mansfield Center, CT; TeliaSonera AB, Farsta, Sweden; Telrad, Rosh Ha'ayin, Israel; Tenovis GmbH & Co. KG, Frankfurt, Germany; Turnstone Systems, Santa Clara, CA; Tut Systems, Pleasanton, CA: Uniden America, Fort Worth, TX; URMET Suds S.p.A., Torino, Italy; VideoTele.com, Lake Oswego, OR; Virtual Access, Foxboro, MA; Vitria Technology, Sunnyvale, CA; VoicePump, Schaumberg, IL; Voyan Technology, Santa Clara, CA; Wind River Systems, Alameda, CA; Wipro, Bangalore, Karataka, India; Yokogawa Electric Corporation, Tokyo, Japan; and Zhone Technologies, Oakland, CA.

Panasonic Semiconductor is now Panasonic Communications, Tokyo, Japan; Pacific Century Cyperworks is now PCCW Limited, Hong Kong, Hong Kong-China; Professional Multimedia Networks is now Sphairon, Bautzen, Germany; and CSI Suttle/Apparatus is now Suttle, Eden Prairie, MN.

No other changes have been made in either the membership or planned activity of the group research project. Membership in this group research project remains open, and DSL intends to file additional written notifications disclosing all changes in membership.

On May 15, 1995, DSL filed its original notification pursuant to Section 6(a) of the Act. The Department of Justice published a notice in the Federal Register pursuant to Section 6(b) of the Act on July 25, 1995 (60 FR 38058).

The last notification was filed with the Department on October 16, 2002. A notice was published in the Federal Register pursuant to Section 6(b) of the Act on December 20, 2002 (67 FR 78014).

Dorothy B. Fountain,
Deputy Director of Operations, Antitrust Division.

[FR Doc. 03-20825 Filed 8-14-03; 8:45 am]

BILLING CODE 4410-11-M